DEPARTMENT OF TRANSPORTATION

Federal Aviation Administration

14 CFR Parts 1 and 101

[Docket No. FAA-2007-27390; Amendment Nos. 1-62 and 101-8]

RIN 2120-AI88

Requirements for Amateur Rocket Activities

AGENCY: Federal Aviation Administration (FAA), DOT.

ACTION: Final rule; correction.

SUMMARY: This document corrects errors in the FAA regulations regarding amateur rockets. A section concerning unmanned rocket activities was inadvertently placed in the subpart for unmanned balloon activities. This correction moves that section to the correct subpart, so all the information relating to unmanned rocket activities will appear in the same subpart. Additionally, we are making minor editorial corrections.

DATES: This amendment is effective July 6, 2009.

FOR FURTHER INFORMATION CONTACT: For technical questions concerning this final rule contact Charles P. Brinkman, Licensing and Safety Division (AST-200), Commercial Space Transportation, Federal Aviation Administration, 800 Independence Avenue, Washington, DC 20591, telephone (202) 267-7715, e-mail Phil.Brinkman@faa.gov. For legal questions concerning this final rule contact Gary Michel, Office of the Chief Counsel, Federal Aviation Administration, 800 Independence Avenue, Washington, DC 20591, telephone (202) 267-3148.

SUPPLEMENTARY INFORMATION:

Background

On December 4, 2008 (73 FR 73768), the FAA published the final rule “Requirements for Amateur Rocket Activities.” A new § 101.29 was added in the final rule. However, the section was inadvertently added to Subpart D—Unmanned Free Balloons. It should have been added to Subpart C—Unmanned Rockets, since the new section concerns amateur rocket activities, not balloon activities. Moving § 101.29 to the correct subpart will make it easier for readers to find all the information relating to unmanned rockets in one place. In § 1.1, paragraph (2) of the definition for Amateur Rockets, the word “statue” is changed to “statute”. In the first line of § 101.25(b)(5), the number “8” (kilometers) is changed to “9.26” to correct the metric conversion when the word “statute” is replaced with the word “nautical”. Lastly, in the second line of § 101.27(c), the word “statute” is again replaced with the word “nautical”.

Technical Correction

This technical correction merely moves an existing section to the correct subpart and ensures correct spelling and placement of miscellaneous words. There are no other changes to the existing regulatory text.

Justification for Immediate Adoption

Because this action moves an existing section to an existing subpart, the FAA finds that notice and public comment under 5 U.S.C. 553(b) is unnecessary. For the same reason, the FAA finds good cause exists under 5 U.S.C. 553(d) for making this rule effective upon publication.

List of Subjects for Parts 1 and 101

Aircraft, Aviation safety.

The Amendment

In consideration of the foregoing, the FAA amends 14 CFR parts 1 and 101, as follows:

PART 1—DEFINITIONS AND ABBREVIATIONS

1. The authority citation for part 1 continues to read as follows:

Authority: 49 U.S.C. 106(g), 40113, 44701.

§ 1.1 [Amended]

2. Amend § 1.1 by correcting paragraph (2) of the definition of “Amateur rocket” by removing the word “statue” and adding the word “statute” in its place.

PART 101—MOORED BALLOONS, KITES, UNMANNED ROCKETS AND UNMANNED FREE BALLOONS

3. The authority citation for part 101 continues to read as follows:

Authority: 49 U.S.C. 106(g), 40103, 40113-40114, 45302, 44502, 44514, 44701-44702, 44721, 46308.

§ 101.25 [Amended]

4. Amend § 101.25 by correcting paragraph (b)(5) by removing the number “8” and adding the number “9.26” in its place and removing the word “statute” and adding the word “nautical” in its place.

§ 101.27 [Amended]

5. Amend § 101.27 by correcting paragraph (c) by removing the word “statute” and adding the word “nautical” in its place.

§ 101.29 [Transferred]

6. Transfer § 101.29 from Subpart D into Subpart C of part 101.

Issued in Washington, DC, on June 30, 2009.
Pamela Hamilton-Powell,
Director, Office of Rulemaking.

[FR Doc. E9-15821 Filed 7-2-09; 8:45 am]

BILLING CODE 4910-13-P